DEPARTMENT OF HOMELAND SECURITY

Federal Emergency Management Agency

[Docket ID FEMA-2019-0002; Internal Agency Docket No. FEMA-B-1952]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arkansas: Benton | City of Bentonville (18-06-3818P). | The Honorable Stephanie Orman, Mayor, City of Bentonville, 117 West Central Avenue, Bentonville, AR 72712. | Department of Public Works, 3200 Southwest Municipal Drive, Bentonville, AR 72712. | https://msc.fema.gov/portal/advanceSearch. | Nov. 25, 2019 | 050012
Colorado:
Denver | City and County of Denver (19-08-0639P). | The Honorable Michael B. Hancock, Mayor, City and County of Denver, 1437 Bannock Street, Suite 350, Denver, CO 80202. | Department of Public Works, 201 West Colfax Avenue, Denver, CO 80202. | https://msc.fema.gov/portal/advanceSearch. | Nov. 8, 2019 | 080046
El Paso | City of Colorado Springs (19-08-0188P). | The Honorable John Suthers, Mayor, City of Colorado Springs, 30 South Nevada Avenue, Suite 601, Colorado Springs, CO 80903. | Pikes Peak Regional Building Department, 2880 International Circle, Colorado Springs, CO 80910. | https://msc.fema.gov/portal/advanceSearch. | Oct. 15, 2019 | 080060
Jefferson | City of Westminster (19-08-0502P). | The Honorable Herb Atchison, Mayor, City of Westminster, 4800 West 92nd Avenue, Westminster, CO 80031. | City Hall, 4800 West 92nd Avenue, Westminster, CO 80031. | https://msc.fema.gov/portal/advanceSearch. | Nov. 8, 2019 | 080008
Connecticut: Hartford | Town of West Hartford (19-01-0295P). | Mr. Matt Hart, Manager, Town of West Hartford, 50 South Main Street, West Hartford, CT 06107. | Planning and Zoning Department, 50 South Main Street, West Hartford, CT 06107. | https://msc.fema.gov/portal/advanceSearch. | Sep. 20, 2019 | 095081
Florida:
Broward | City of Hollywood (19-04-0557P). | Mr. Wazir Ishmael, Manager, City of Hollywood, 2600 Hollywood Boulevard, Room 419, Hollywood, FL 33022. | Public Utilities Department, 2600 Hollywood Boulevard, Room 308, Hollywood, FL 33022. | https://msc.fema.gov/portal/advanceSearch. | Nov. 4, 2019 | 125113
Charlotte | Unincorporated areas of Charlotte County (19-04-0669P). | The Honorable Ken Doherty, Chairman, Charlotte County Board of Commissioners, 18500 Murdock Circle, Suite 536, Port Charlotte, FL 33948. | Charlotte County Community, Development Department, 18500 Murdock Circle, Port Charlotte, FL 33948. | https://msc.fema.gov/portal/advanceSearch. | Oct. 17, 2019 | 120061
Hillsborough | Unincorporated areas of Hillsborough County (19-04-1062P). | Mr. Mike Merrill, Hillsborough County Administrator, 601 East Kennedy Boulevard, Tampa, FL 33602. | Hillsborough County Development Services Department, 1400 North Boulevard, Tampa, FL 33607. | https://msc.fema.gov/portal/advanceSearch. | Nov. 4, 2019 | 120112
Manatee | City of Bradenton Beach (19-04-3423P). | The Honorable John Chappie, Mayor, City of Bradenton Beach, 107 Gulf Drive North, Bradenton Beach, FL 34217. | Building Department, 107 Gulf Drive North, Bradenton Beach, FL 34217. | https://msc.fema.gov/portal/advanceSearch. | Nov. 12, 2019 | 125091
Miami-Dade | City of Doral (19-04-0513P). | The Honorable Juan C. Bermudez, Mayor, City of Doral, 8401 Northwest 53rd Terrace, 3rd Floor, Doral, FL 33166. | City Hall, 8401 Northwest 53rd Terrace, 3rd Floor, Doral, FL 33166. | https://msc.fema.gov/portal/advanceSearch. | Nov. 18, 2019 | 120041
Monroe | City of Marathon (19-04-3625P). | The Honorable John Bartus, Mayor, City of Marathon, 9805 Overseas Highway, Marathon, FL 33050. | Planning Department, 9805 Overseas Highway, Marathon, FL 33050. | https://msc.fema.gov/portal/advanceSearch. | Nov. 12, 2019 | 120681
Monroe | Unincorporated areas of Monroe County (19-04-3471P). | The Honorable Sylvia Murphy, Mayor, Monroe County Board of Commissioners, 102050 Overseas Highway, Suite 234, Key Largo, FL 33037. | Monroe County Building Department, 2798 Overseas Highway, Suite 300, Marathon, FL 33050. | https://msc.fema.gov/portal/advanceSearch. | Nov. 4, 2019 | 125129
Monroe | Village of Islamorada (19-04-3477P). | The Honorable Deb Gills, Mayor, Village of Islamorada, 86800 Overseas Highway, Islamorada, FL 33036. | Building Department, 86800 Overseas Highway, Islamorada, FL 33036. | https://msc.fema.gov/portal/advanceSearch. | Nov. 12, 2019 | 120424
Sarasota | City of Sarasota (19-04-3550P). | The Honorable Liz Alpert, Mayor, City of Sarasota, 1565 1st Street, Room 101, Sarasota, FL 34236. | Development Services Department, 1565 1st Street, Sarasota, FL 34236. | https://msc.fema.gov/portal/advanceSearch. | Nov. 13, 2019 | 125150
Sarasota | Unincorporated areas of Sarasota County (19-04-2523P). | The Honorable Charles D. Hines, Chairman, Sarasota County Board of Commissioners, 1660 Ringling Boulevard, Sarasota, FL 34236. | Sarasota County Planning and Development Services Department, 1001 Sarasota Center Boulevard, Sarasota, FL 34240. | https://msc.fema.gov/portal/advanceSearch. | Nov. 12, 2019 | 125144
Montana: Sanders | Unincorporated areas of Sanders County (19-08-0298P). | The Honorable Anthony B. Cox, Presiding Officer, Sanders County Board of Commissioners, P.O. Box 519, Thompson Falls, MT 59873. | Sanders County Land Services Department, 1111 Main Street. | https://msc.fema.gov/portal/advanceSearch. | Nov. 15, 2019 | 300072
Oklahoma: Pottawatomie | City of Shawnee (19-06-2167P). | The Honorable Richard Finley, Mayor, City of Shawnee, 16 West 9th Street, Shawnee, OK 74801. | City Hall, 16 West 9th Street, Shawnee, OK 74801. | https://msc.fema.gov/portal/advanceSearch. | Oct. 3, 2019 | 400178
Pennsylvania:
Union | Borough of Lewisburg (18-03-1763P). | The Honorable Judith T. Wagner, Mayor, Borough of Lewisburg, 127 Spruce Street, Lewisburg, PA 17837. | Borough Hall, 55 South 5th Street, 127 Spruce Street, Lewisburg, PA 17837. | https://msc.fema.gov/portal/advanceSearch. | Nov. 12, 2019 | 480831
Union | Township of East Buffalo (18-03-1763P). | The Honorable Char Gray, Chairman, Township of East Buffalo Board of Supervisors, 589 Fairground Road, Lewisburg, PA 17837. | Township Hall, 589 Fairground Road, Lewisburg, PA 17837. | https://msc.fema.gov/portal/advanceSearch. | Nov. 12, 2019 | 421011
Texas:
Collin and Denton | City of Celina (19-06-0008P). | The Honorable Sean Terry, Mayor, City of Celina, 142 North Ohio Street, Celina, TX 75009. | City Hall, 142 North Ohio Street, Celina, TX 75009. | https://msc.fema.gov/portal/advanceSearch. | Oct. 7, 2019 | 480133
Collin | Unincorporated areas of Collin County (19-06-0008P). | The Honorable Chris Hill, Collin County Judge, 2300 Bloomdale Road, Suite 4192, McKinney, TX 75071. | Collin County Emergency Management Department, 4690 Community Avenue, Suite 200, McKinney, TX 75071. | https://msc.fema.gov/portal/advanceSearch. | Oct. 7, 2019 | 480130
Denton | City of Frisco (19-06-0120P). | The Honorable Jeff Cheney, Mayor, City of Frisco, 6101 Frisco Square Boulevard, Frisco, TX 75034. | Engineering Services Department, 6101 Frisco Square Boulevard, Frisco, TX 75034. | https://msc.fema.gov/portal/advanceSearch. | Nov. 12, 2019 | 480134
Denton | City of The Colony (19-06-1578P). | The Honorable Joe McCourry, Mayor, City of The Colony, 6800 Main Street, The Colony, TX 75056. | Engineering Department, 6800 Main Street, The Colony, TX 75056. | https://msc.fema.gov/portal/advanceSearch. | Nov. 12, 2019 | 481581
Denton | Town of Little Elm (19-06-0120P). | The Honorable David Hillock, Mayor, Town of Little Elm, 100 West Eldorado Parkway, Little Elm, TX 75068. | Development Services Department, 100 West Eldorado Parkway, Little Elm, TX 75068. | https://msc.fema.gov/portal/advanceSearch. | Nov. 12, 2019 | 481152
Denton | Unincorporated areas of Denton County (19-06-0008P). | The Honorable Andy Eads, Denton County Judge, 110 West Hickory Street, 2nd Floor, Denton, TX 76201. | Denton County Public Works, Engineering Department, 1505 East McKinney Street, Suite 175, Denton, TX 76201. | https://msc.fema.gov/portal/advanceSearch. | Oct. 7, 2019 | 480774
Denton | Unincorporated areas of Denton County (19-06-0120P). | The Honorable Andy Eads, Denton County Judge, 110 West Hickory Street, 2nd Floor, Denton, TX 76201. | Denton County Public Works, Engineering Department, 1505 East McKinney Street, Suite 175, Denton, TX 76201. | https://msc.fema.gov/portal/advanceSearch. | Nov. 12, 2019 | 480774
Ector | City of Odessa (18-06-3857P). | The Honorable David Turner, Mayor, City of Odessa, P.O. Box 4398, Odessa, TX 79760. | City Hall, 411 West 8th Street, 4th Floor, Odessa, TX 79761. | https://msc.fema.gov/portal/advanceSearch. | Nov. 18, 2019 | 480206
McLennan | City of Woodway (18-06-3769P). | Mr. Shawn Oubre, Manager, City of Woodway, 922 Estates Drive, Woodway, TX 76712. | Community Services and Development Department, 924 Estates Drive, Woodway, TX 76712. | https://msc.fema.gov/portal/advanceSearch. | Nov. 19, 2019 | 480462
McLennan | Unincorporated areas of McLennan County (18-06-3769P). | The Honorable Scott M. Felton, McLennan County Judge, 501 Washington Avenue, Room 214, Waco, TX 76701. | McLennan County Engineering and Mapping Department, 215 North 5th Street, Suite 130, Waco, TX 76701. | https://msc.fema.gov/portal/advanceSearch. | Nov. 19, 2019 | 480456
Potter | Unincorporated areas of Potter County (19-06-0488P). | The Honorable Nancy Tanner, Potter County Judge, 500 South Fillmore Street, Suite 103, Amarillo, TX 79101. | Potter County Courthouse, 500 South Fillmore Street, Amarillo, TX 79101. | https://msc.fema.gov/portal/advanceSearch. | Nov. 4, 2019 | 481241
Tarrant | City of Fort Worth (19-06-0602P). | The Honorable Betsy Price, Mayor, City of Fort Worth, 200 Texas Street, Fort Worth, TX 76102. | Transportation and Public Works Engineering Department, 200 Texas Street, Fort Worth, TX 76102. | https://msc.fema.gov/portal/advanceSearch. | Nov. 14, 2019 | 480596
Washington:
Spokane | City of Spokane Valley (18-10-1005P). | Mr. Mark Calhoun, Manager, City of Spokane Valley, 10210 East Sprague Avenue, Spokane Valley, WA 99206. | Building and Planning Division, 10210 East Sprague Avenue, Spokane Valley, WA 99206. | https://msc.fema.gov/portal/advanceSearch. | Oct. 15, 2019 | 530342
Spokane | Unincorporated areas of Spokane County (18-10-1005P). | Mr. Gerry Gemmill, Chief Executive Officer, Spokane County, 1116 West Broadway Avenue, Spokane County, WA 99260. | Spokane County Public Works Department, 1026 West Broadway Avenue, Spokane County, WA 99260. | https://msc.fema.gov/portal/advanceSearch. | Oct. 15, 2019 | 530174

[FR Doc. 2019-17023 Filed 8-7-19; 8:45 am]

BILLING CODE 9110-12-P